DEPARTMENT OF COMMERCE

National Oceanic and Atmospheric Administration

50 CFR Part 622

[I.D. 021500A]

RIN 0648-AM75

Fisheries of the Caribbean, Gulf of Mexico, and South Atlantic; Amendment 12 to the Fishery Management Plan (FMP) for the Coastal Migratory Pelagic Resources of the Gulf of Mexico and South Atlantic (Amendment 12)

AGENCY: National Marine Fisheries Service (NMFS), National Oceanic and Atmospheric Administration (NOAA), Commerce.

ACTION: Notice of availability of Amendment 12; request for comments.

SUMMARY: NMFS announces that the Gulf of Mexico and South Atlantic Fishery Management Councils (Councils) have submitted Amendment 12 for review, approval, and implementation by NMFS. Amendment 12 contains a single action that would extend the expiration date of the commercial king mackerel vessel permit moratorium through October 15, 2005. Written comments are requested from the public.

DATES: Comments must received at the appropriate address or fax number, (see ADDRESSES), no later than 5:00 p.m., eastern standard time, on May 1, 2000.

ADDRESSES: Written comments should be sent to Steve Branstetter, Southeast Regional Office, NMFS, 9721 Executive Center Drive N., St. Petersburg, FL 33702. Comments also may be sent via fax to 727-570-5583. Comments will not be accepted if submitted via e-mail or Internet.

Requests for copies of Amendment 12, which includes an environmental assessment and a regulatory impact review, may be obtained from the Gulf of Mexico Fishery Management Council, Suite 1000, 3018 U.S. Highway 301 North, Tampa, FL 33619; telephone: 813-228-2815; fax: 813-225-7015; e-mail: gulf.council@noaa.gov; or from the South Atlantic Fishery Management Council, Southpark Building, One Southpark Circle, Suite 306, Charleston, SC 29407-4699; telephone: 843-571-4366; fax: 843-769-4520; e-mail: safmc@noaa.gov.

FOR FURTHER INFORMATION CONTACT: Steve Branstetter, 727-570-5305; fax 727-570-5583; e-mail: steve.branstetter@noaa.gov.

SUPPLEMENTARY INFORMATION: The Magnuson-Stevens Fishery Conservation and Management Act (Magnuson-Stevens Act) requires each Regional Fishery Management Council to submit an FMP or amendment to NMFS for review and approval, disapproval, or partial approval. The Magnuson-Stevens Act also requires that NMFS, upon receiving an FMP or amendment, immediately publish a document in the Federal Register stating that the amendment is available for public review and comment.

Amendment 8 to the FMP for the Coastal Migratory Pelagic Resources of the Gulf of Mexico and South Atlantic established the commercial king mackerel vessel permit moratorium in March 1998. Amendment 12 would extend the moratorium from its current expiration date of October 15, 2000, to October 15, 2005, or until the moratorium can be replaced with a license limitation, limited access, and/or individual fishing quota or individual transferrable quota system, whichever occurs earlier. The intended effects of extending the permit moratorium through the proposed action are to prevent increases in fishing effort, to possibly reduce the number of permittees in the king mackerel fishery, and to stabilize the economic performance of current participants while protecting king mackerel from overfishing.

Currently, various hook-and-line and run-around gillnet fisheries for king mackerel in the Gulf of Mexico and the South Atlantic region are subject to closures when the quotas are filled before the end of their respective fishing years. Such closures in recent years indicate that fleet size and fishery effort still exceed that needed to harvest the allowable quotas. The Councils are concerned that allowing the current moratorium to expire would increase the number of participants in the king mackerel fishery, thereby negating any reductions in effort that have been achieved as a result of the current moratorium. An increase in participants would exacerbate the current derby fisheries that occur in the western Gulf zone and in the Florida west coast gillnet fishery, would lead to even earlier closures, and would have an adverse impact on the economic returns to the current participants. Increased participation would also compound the complexity of the Councils' future task in developing a controlled access system for this fishery. For example, if the future assignment of fishing privileges under a new limited access system is weighted more toward historical rather than current participation, new fishery entrants may lose a good part of their new investments.

In accordance with the Magnuson-Stevens Act, NMFS is evaluating the proposed rule to implement Amendment 12 to determine if it is consistent with the FMP, the Magnuson-Stevens Act, and other applicable law. If that determination is affirmative, NMFS will publish the proposed rule in the Federal Register for public review and comment.

NMFS will consider comments received by May 1, 2000, whether specifically directed to Amendment 12 or its proposed rule, in its decision to approve, disapprove, or partially disapprove the amendment. NMFS will address all the comments received during the respective comment periods for Amendment 12 and its proposed rule in the preamble of the final rule.

Authority: 16 U.S.C. 1801 et seq.

Dated: February 24, 2000.
Bruce Morehead,
Acting Director, Office of Sustainable Fisheries, National Marine Fisheries Service.

[FR Doc. 00-4911 Filed 2-29-00; 8:45 am]

BILLING CODE 3510-22-F